DEPARTMENT OF AGRICULTURE

Submission for OMB Review; Comment Request

March 18, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by April 22, 2020. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Cotton Classing, Testing, and Standards.

OMB Control Number: 0581-0008.

Summary of Collection: The U.S. Cotton Standards Act, 7 U.S.C. 51 53 and 55, authorizes the USDA to supervise the various activities directly associated with the classification or grading of cotton, cotton linters, and cottonseed based on official USDA Standards. The Cotton and Tobacco Program of the Agricultural Marketing Service carries out this supervision and is responsible for the maintenance of the functions to which these forms relate. USDA is the only Federal agency authorized to establish and promote the use of the official cotton standards of the U.S. in interstate and foreign commerce and to supervise the various activities associated with the classification or grading of cotton, cotton linters, and cottonseed based on official USDA standards.

Need and Use of the Information: The Agricultural Marketing Service collects the information using various forms. Form FD-210 is submitted by owners of cotton to request cotton classification services. The request contains information for USDA to ascertain proper ownership of the samples submitted, to distribute classification results, and bill for services. Information about the origin and handling of the cotton is necessary in order to properly evaluate and classify the samples.

Form CN-246 is submitted by cotton gins and warehouses seeking to serve as licensed samplers. Licenses issued by the USDA-AMS Cotton and Tobacco Program authorize the warehouse/gin to draw and submit samples to ensure the proper application of standards in the classification of cotton and to prevent deception in their use.

Form CN-383 is a package of forms designated as CN-383-a through CN-383-k that is submitted by cotton producers, ginners, warehousemen, cooperatives, manufacturers, merchants, and crushers interested in acquiring cotton classification standards and round testing services.

If this information is not collected or collected less frequency, Federal services could not be provided as authorized by the U.S. Cotton Standards Act.

Description of Respondents: Business or other for-profit.

Number of Respondents: 1,041.

Frequency of Responses: Reporting: Annually; on occasion.

Total Burden Hours: 184.

Agricultural Marketing Service

Title: Cotton Classification and Market News Service.

OMB Control Number: 0581-0009.

Summary of Collection: The Cotton Statistics and Estimates Act, 7 U.S. Code 471-476, authorizes the Secretary of Agriculture to collect and publish annually statistics or estimates concerning the grades and staple lengths of stocks of cotton. In addition, Agricultural Marketing Service (AMS) collects, authenticates, publishes, and distributes timely information of the market supply, demand, location, and market prices for cotton (7 U.S.C. 473B). This information is needed and used by all segments of the cotton industry.

Need and Use of the Information: AMS will collect information on the quality of cotton in the carryover stocks along with the size or volume of the carryover. Growers use this information in making decisions relative to marketing their present crop and planning for the next one; cotton merchants use the information in marketing decisions; and the mills that provide the data also use the combined data in planning their future purchase to cover their needs. Importers of U.S. cotton use the data in making their plans for purchases of U.S. cotton. AMS and other government agencies are users of the compiled information.

Description of Respondents: Business or other for-profit.

Number of Respondents: 696.

Frequency of Responses: Reporting: On occasion; Weekly; Annually.

Total Burden Hours: 599.

Ruth Brown,
Departmental Information Collection Clearance Officer.

[FR Doc. 2020-06078 Filed 3-20-20; 8:45 am]

BILLING CODE 3410-02-P